DEPARTMENT OF ENERGY

Federal Energy Regulatory Commission

[Project No. 14872-000]

Peterson Machinery Sales; Notice of Preliminary Permit Application Accepted for Filing and Soliciting Comments, Motions To Intervene, and Competing Applications

On March 19, 2018, Peterson Machinery Sales filed an application for a preliminary permit, pursuant to section 4(f) of the Federal Power Act, proposing to study the feasibility of the Hubbardston Hydroelectric Project (project) to be located on the Fish Creek, near Hubbardston, in Ionia County, Michigan. The sole purpose of a preliminary permit, if issued, is to grant the permit holder priority to file a license application during the permit term. A preliminary permit does not authorize the permit holder to perform any land-disturbing activities or otherwise enter upon lands or waters owned by others without the owners' express permission.

The proposed project would be located at the site of an existing, non-operational hydroelectric project previously operated by Hope Renewable Energy, LLC without a Commission license. The proposed run-of-river project will involve rehabilitation and upgrade of the following existing facilities: (1) A 60-acre, 600-acre-foot reservoir with normal surface elevation of 850 feet mean sea level; (2) a 350-foot-long, 25 to 30-foot-high combination dam and spillway incorporating a 80-foot-long, 12-foot-wide intake channel; (3) a 30-foot-long, 20-foot-wide, 25-foot-high powerhouse containing two Francis turbines and associated generators with a combined installed capacity of 400 kilowatts; (4) a 600-foot-long tailrace; and (5) appurtenant facilities. The estimated average annual generation of the project would be 3,500 megawatt-hours that would be conveyed from the powerhouse to the grid via a transmission line owned by Consumers Energy.

Applicant Contact: Charles R. Peterson, 804 Gila Bend Highway, Casa Grande, Arizona 85122, phone (231) 649-8706.

FERC Contact: Sergiu Serban, (202) 502-6211.

Deadline for filing comments, applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14872-000.

More information about this project, including a copy of the application, can be viewed or printed on the “eLibrary” link of Commission's website at http://www.ferc.gov/docs-filing/elibary.asp. Enter the docket number (P-14872) in the docket number field to access the document. For assistance, contact FERC Online Support.

Dated: September 6, 2018.
Nathaniel J. Davis, Sr.,
Deputy Secretary.

[FR Doc. 2018-19812 Filed 9-11-18; 8:45 am]

BILLING CODE 6717-01-P